DEPARTMENT OF TRANSPORTATION

Federal Transit Administration

Draft Environmental Impact Statement for the Green Line Corridor Transit Project; Baltimore, MD

AGENCY: Federal Transit Administration (FTA), U.S. Department of Transportation.

ACTION: Notice of intent to prepare a Draft Environmental Impact Statement (DEIS).

SUMMARY: The Federal Transit Administration (FTA) and the Maryland Transit Administration (MTA) are issuing this notice to advise agencies and the public that, in accordance with the National Environmental Policy Act, the FTA and the MTA will prepare a Draft Environmental Impact Statement (DEIS) to assess the impacts of potential transit alternatives in the Green Line Corridor. This corridor extends from Johns Hopkins Medical Center north to Morgan State University. The Green Line Corridor Transit Project would serve older dense city neighborhoods in northeast Baltimore and would provide convenient and efficient access between Johns Hopkins Medical Center, the proposed East Baltimore Biotechnology Park, Morgan State University, and the Baltimore City Central Business District, as well as improved connectivity with other transit services in Baltimore and support economic development. The 23-member Advisory Committee to MTA that developed the Baltimore Region Rail System Plan identified growing traffic congestion in the Baltimore region, the need for improved access to jobs, improving air quality and the desire to keep the Baltimore region competitive as important concerns for the Baltimore Region. The Green Line Corridor Transit Project was identified as a priority project for addressing these issues. The project is also included in the Baltimore Region Constrained Long-Range Plan.

The purpose of the Green Line DEIS is to examine the engineering feasibility, potential benefits, costs, and social, cultural, economic, built and natural environmental impacts of feasible alternatives in the corridor to improve transit mobility in the Baltimore metropolitan area. The DEIS will examine and evaluate rail, bus rapid transit (BRT), transportation systems management/transportation demand management (TSM/TDM), and no-build alternatives. Tunnel, surface and/or aerial alignment options will be considered for rail and BRT alternatives.

Scoping Meetings: Public scoping meetings for the Green Line Corridor Transit Project DEIS will be held at times and locations to be held on:

June 12—Dunbar High School, 1400 Orleans Street—3:30 p.m.-8 p.m.

June 14—Good Samaritan Hospital, 5601 Loch Raven Boulevard—10 a.m.-2 p.m.

Additional meeting dates, times and locations will be announced on the project Web site accessed through http://www.mtamaryland.com, and will be published in the following newspapers:

The Baltimore Sun

The Afro-American

The Baltimore Times

The Morgan University Spokesman

The Johns Hopkins Gazette

The Northeast Booster

Scoping material will be available at the meetings and may also be obtained in advance of the meetings by contacting Mr. Lorenzo Bryant, Project Manager, at the address below. Scoping material will also be made available on the project Web site accessed through http://www.mtamaryland.com. Oral and written comments may be given at the scoping meetings; a stenographer will be available to record all comments. Information will be made available in both English and Spanish.

ADDRESSES: Written comments on the project scope should be sent by August 1, 2003 to Mr. Lorenzo Bryant, Attn: Green Line, Maryland Transit Administration, William Donald Schaefer Tower, 6 St. Paul Street, Baltimore, MD 21202-1614, or via e-mail to railplan@mdot.state.md.us. Mr. Bryant may also be reached by calling (410) 767-3754.

FOR FURTHER INFORMATION CONTACT: If you wish to be placed on the mailing list to receive further information as the study develops, contact Mr. Lorenzo Bryant, Project Manager, or Mr. Jamie Kendrick, Project Outreach Manager, at the above address or railplan@mdot.state.md.us. For further information you may also contact Ms. Gail McFadden-Roberts, AICP, Community Planner, Office of Planning and Program Development, Federal Transit Administration, Region III, phone: (215) 656-7100, fax: (215) 656-7260.

SUPPLEMENTARY INFORMATION:

I. Scoping

The FTA and MTA invite all interested individuals and organizations, and federal, state, and local agencies to provide comments on the scope of the study. During the scoping process, comments should focus on identifying specific social, cultural, economic, or natural environmental issues to be evaluated and suggest alternatives, which may be less costly or have less environmental impacts, while achieving similar transportation objectives. The objectives of the Green Line Corridor Transit Project are to: connect northeastern Baltimore to Johns Hopkins Medical Center, downtown Baltimore, the major growth area of Owings Mills; serve Morgan State University; provide convenient service to existing neighborhoods; provide connections to Baltimore's existing Metro, Light Rail and MARC lines; provide access to the proposed East Baltimore Biotechnology Park; support Smart Growth by serving established city neighborhoods; improve transportation accessibility to existing employment centers in downtown Baltimore; and provide a viable transit alternative to single occupancy vehicle (SOV) travel in the Baltimore region, which is a non-attainment area under the Clean Air Act. Comments should focus on the issues and alternatives for analysis and not on a preference for a particular alternative.

Following public scoping meetings, public outreach activities will include meetings with Local Working Groups established for the study and comprised of community leaders; public meetings and hearings; distribution of a study newsletter; project website and electronic mail newsletters; and other outreach methods and forums. The purpose of the public outreach activities during the scoping process is to inform the public of the proposed study process and to solicit input from the community on the proposed study. Every effort will be made to ensure that the widest possible range of public participants have the opportunity to attend general public meetings held by MTA to solicit input on the Green Line Corridor Transit Project DEIS. Attendance will be sought through mailings, notices, advertisements, press releases and other outreach efforts.

II. Description of Primary Study Area and Transportation Needs

The Green Line study area extends approximately 4 miles in a northeast direction within Baltimore City. The study area begins at the existing terminus of the Baltimore Metro line at Johns Hopkins Medical Center and extends north and east to Morgan State University campus. The southern portion of the study area consists primarily of dense residential and institutional land use, while the northern portion consists primarily of lower-density residential areas and institutional use.

The Green Line Corridor Transit Project would provide a connection between communities in northeast Baltimore City and western Baltimore County and would provide convenient and efficient access to major employment centers in downtown and northeast Baltimore at Johns Hopkins Medical Center, the proposed East Baltimore Biotechnology Park and Morgan State University. It would support the redevelopment and revitalization efforts in east and northeast Baltimore. The purpose of the Green Line Corridor Project DEIS is to examine in further detail potential solutions for addressing mobility issues in the Baltimore region. The focus of the DEIS will be to identify a preferred alternative to improve mobility within the region while being sensitive to the socioeconomic, cultural and natural environmental considerations on a local and regional basis.

The following existing and forecasted reasons dictate the need for a transportation investment in the Baltimore Metropolitan region:

• Growth and development in the region continue at high rates. Smart Growth principles require that the region's economic centers such as Baltimore need to be stimulated, remain vibrant and continue to grow into the future; the Green Line extension would support regional economic centers by providing convenient access to these areas.

• Increased travel demand is causing traffic congestion, unsafe roadway conditions and longer travel delays; the Green Line would provide transportation alternatives to those who currently drive, and would help free road space for those who are auto-dependent, making roadways safer and less prone to delays.

• Many residents in the region lack convenient and accessible transit service to job opportunities; the Green Line will provide fast efficient transit service to these areas and provide residents with enhanced opportunities for employment and mobility through increased connectivity with existing transit services.

• Air quality is a serious problem in the Baltimore region; the Green Line Corridor Transit Project can help the region meet federal health standards for clean air by reducing single occupancy vehicle use.

III. Alternatives

The alternatives proposed for evaluation include: a no-build alternative, which includes the current network plus all ongoing, programmed, and committed projects listed in the Transportation Improvement Program (TIP for the years 2002-2006); a TSM/TDM alternative, which would include improving existing transit services such as additional bus service and routes; BRT alternatives; and rail alternatives. The no-build alternative will provide a basis for comparison with the TSM/TDM and build alternatives.

Each build alternative will explore the construction of new transportation infrastructure, such as tracks, stations, and maintenance yards. Tunnel, surface and/or aerial options will be developed for each of the build alternative alignments. Multi-modal alternatives will also be explored.

IV. Probable Effects

The FTA and MTA will evaluate all potential changes to the social, cultural, economic, built and natural environment, including land acquisition and displacements; land use, zoning, economic development; parklands; community disruption; aesthetics; historical and archaeological resources; traffic and parking; air quality; noise and vibration; water quality; wetlands; environmentally sensitive areas; endangered species; energy requirements and potential for conservation; hazardous waste; environmental justice; safety and security; and secondary and cumulative impacts. Key areas of environmental concern include areas of potential new construction (e.g. structures, new transit stations, new track, etc.). Impacts will be evaluated for both the short-term construction period and for the long-term period of operation associated with each alternative. Measures to avoid, minimize and mitigate any significant adverse impacts will be identified.

V. Federal Transit Administration (FTA) Procedures

The Green Line Corridor Transit Project DEIS will be prepared in accordance with section 102(2)(C) of the National Environmental Policy Act (NEPA) of 1969 (as amended) and as implemented by the Council on Environmental Quality (CEQ) regulations (40 CFR parts 1500 “ 1508) and Federal Transit Administration (FTA) regulations (23 CFR part 771), and the FTA Statewide Planning/Metropolitan Planning regulations (23 CFR part 450). These studies will also comply with the requirements of the National Historic Preservation Act of 1966, as amended, section 4(f) of the 1966 U.S. Department of Transportation Act, the 1990 Clean Air Act Amendments, the Executive Order 12898 on Environmental Justice, and other applicable rules, regulations, and guidance documents. In addition, MTA will seek section 5309 New Starts funding for the project, and will be subject to the FTA New Starts regulation (49 CFR part 611). New Starts regulation requires the submission of certain specific information to FTA to support a request to initiate preliminary engineering, which is normally done in conjunction with the NEPA process.

Upon completion, the DEIS will be available for both public and agency review and comment. Public hearings will be held within the study area. Based on the DEIS and the public and agency comments received, a locally preferred alternative will be selected that will be further detailed in the Final EIS.

Issued on: April 8, 2003.
Herman C. Shipman,
Acting Regional Administrator, Federal Transit Administration TRO III.

[FR Doc. 03-8939 Filed 4-10-03; 8:45 am]

BILLING CODE 4910-57-P